DEPARTMENT OF TRANSPORTATION

Maritime Administration

49 CFR Part 389

[Docket No. MARAD-2005-22050]

RIN 2133-AB67

Determination of Availability of Coastwise-Qualified Launch Barges

AGENCY: Maritime Administration, DOT.

ACTION: Proposed rule; Notice of opening of reply comment period.

SUMMARY: The Maritime Administration is establishing regulations governing administrative determinations of availability of coastwise-qualified launch barges to be used in the transportation and launching of offshore oil drilling or production platform jackets in specified projects. This rulemaking implements provisions of the Coast Guard and Maritime Transportation Act of 2004, which, among other things, requires the Secretary of Transportation (acting through the Maritime Administrator) to adopt procedures to determine if coastwise-qualified vessels are available for platform jacket transport and launching, and, if not, to allow the use of non-coastwise qualified foreign built vessels.

The notice of proposed rulemaking for this action was published in the Federal Register on August 15, 2005 (70 FR 47771) with comments due by October 14, 2005. The opening comment period was extended on October 19, 2005 (70 FR 60770) and closed on December 13, 2005.

The Maritime Administration is hereby giving notice that we received and have granted a request by a commenting party to open a reply comment period for this rulemaking. Reply comments are responses to comments that were filed during the previous comment periods for this rulemaking.

DATES: Reply comments are due October 16, 2006.

ADDRESSES: You may submit reply comments [identified by DOT DMS Docket Number MARAD 2005-22050] by any of the following methods:

• Web site: http://dms.dot.gov. Follow the instructions for submitting comments on the DOT electronic docket site.

• Mail: Docket Management Facility; U.S. Department of Transportation, 400 7th St., SW., Nassif Building, Room PL-401, Washington, DC 20590-001.

• Hand Delivery: Room PL-401 on the plaza level of the Nassif Building, 400 7th St., SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. Note that all comments received will be posted without change to http://dms.dot.gov including any personal information provided. Please see the Privacy Act heading below.

Docket: For access to the docket to read background documents or comments received, go to http://dms.dot.gov at any time or to Room PL-401 on the plaza level of the Nassif Building, 400 7th St., SW., Washington, DC, between 9 a.m. and 5 p.m., Monday through Friday, except Federal Holidays.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

By order of the Maritime Administrator.
Dated: August 9, 2006.
Joel C. Richard,
Secretary, Maritime Administration.

[FR Doc. E6-13391 Filed 8-14-06; 8:45 am]

BILLING CODE 4910-81-P